DEPARTMENT OF TRANSPORTATION

Surface Transportation Board

[STB Finance Docket No. 34712 (Sub-No. 1)]

The Kansas City Southern Railway Company—Temporary Trackage Rights Exemption—BNSF Railway Company

BNSF Railway Company (BNSF), pursuant to a written trackage rights agreement entered into between BNSF and The Kansas City Southern Railway Company (KCS), has agreed to provide KCS with non-exclusive, overhead, temporary trackage rights, to expire on November 15, 2005, over BNSF's line of railroad between milepost 307.5, in Neosho, MO, and milepost 3.5X, at Murray Yard, in Kansas City, MO, a distance of approximately 229.1 miles. The original trackage rights granted in The Kansas City Southern Railway Company—Temporary Trackage Rights Exemption—BNSF Railway Company, STB Finance Docket No. 34712 (STB served on June 22, 2005), covered the same line, but are due to expire on July 21, 2005. The purpose of this transaction is to modify the temporary overhead trackage rights exempted in STB Finance Docket No. 34712 to extend the expiration date from July 21, 2005, to November 15, 2005.

The transaction is scheduled to be consummated on July 21, 2005. The modified temporary overhead trackage rights will allow KCS to continue to bridge its train service while KCS's main lines are out of service due to certain programmed track, roadbed and structural maintenance.

As a condition to this exemption, any employees affected by the acquisition of the temporary rights will be protected by the conditions imposed in Norfolk and Western Ry. Co.—Trackage Rights—BN, 354 I.C.C. 605 (1978), as modified in Mendocino Coast Ry., Inc.—Lease and Operate, 360 I.C.C. 653 (1980), and any employee affected by the discontinuance of those trackage rights will be protected by the conditions set out in Oregon Short Line R. Co.—Abandonment—Goshen, 360 I.C.C. 91 (1979).

This notice is filed under 49 CFR 1180.2(d)(8). If it contains false or misleading information, the exemption is void ab initio. Petitions to revoke the exemption under 49 U.S.C. 10502(d) may be filed at any time. The filing of a petition to revoke will not automatically stay the transaction.

An original and 10 copies of all pleadings, referring to STB Finance Docket No. 34712 (Sub-No. 1), must be filed with the Surface Transportation Board, 1925 K Street, NW., Washington, DC 20423-0001. In addition, a copy of each pleading must be served on William A. Mullins, Baker and Miller, PLLC, 2401 Pennsylvania Avenue, NW., Suite 300, Washington, DC 20037.

Board decisions and notices are available on our Web site at http://www.stb.dot.gov.

Decided: July 11, 2005.
By the Board, David M. Konschnik, Director, Office of Proceedings.
Vernon A. Williams,
Secretary.

[FR Doc. 05-14097 Filed 7-18-05; 8:45 am]

BILLING CODE 4915-01-P